DEPARTMENT OF COMMERCE

International Trade Administration

[C-408-046]

Sugar from the European Community; Final Results of the Full Sunset Review of the Countervailing Duty Order

AGENCY: Import Administration, International Trade Administration, Department of Commerce.

SUMMARY: On September 1, 2004, the Department of Commerce (“the Department”) initiated a sunset review of the countervailing duty (“CVD”) finding on sugar from the European Community (“the Community”) pursuant to section 751(c) of the Tariff Act of 1930, as amended (“the Act”). See Notice of Initiation of Five-year (“Sunset”) Review, 69 FR 53408 (September 1, 2004). On the basis of a notice of intent to participate filed on behalf of the domestic interested parties and adequate substantive comments filed on behalf of the domestic interested parties and the Community, the Department conducted a full sunset review of the countervailing duty finding on sugar from the Community. As a result of this sunset review, the Department finds that revocation of the CVD finding would likely lead to continuation or recurrence of countervailable subsidies at the level indicated in the “Final Results of Review” section of this notice.

EFFECTIVE DATE: August 4, 2005.

FOR FURTHER INFORMATION CONTACT: Tipten Troidl, AD/CVD Operations, Office 3, Import Administration, International Trade Administration, U.S. Department of Commerce, 14th Street & Constitution Avenue, NW, Washington, DC 20230; telephone: (202) 482-1767.

SUPPLEMENTARY INFORMATION:

Background

On September 1, 2004, the Department initiated a sunset review of the CVD finding on sugar from the Community. See Notice of Initiation of Five-year (“Sunset”) Review, 69 FR 53408 (September 1, 2004). On March 25, 2005, the Department published the preliminary results of the full sunset review of the CVD finding on sugar from the Community. See Sugar From the European Community; Preliminary Results of Full Sunset Review of the Countervailing Duty Finding, 70 FR 15293 (March 25, 2005) (“Preliminary Sunset Results”), and the accompanying Issues and Decision Memorandum for the Five-year (“Sunset”) Review of the Countervailing Duty Finding on Sugar from the European Community; Preliminary Results, dated March 25, 2005 (“Preliminary Results Decision Memorandum”).¹ In our Preliminary Sunset Results, we found that benefits from the export restitution payment program would likely continue or recur were the order revoked.

¹ For a full discussion of the history of this finding prior to the Preliminary Sunset Results, see the March 25, 2005, Preliminary Results Decision Memorandum.

On May 9, 2005, the Department received a case brief from the United States Beet Sugar Association, the American Sugar Refiners' Association, the American Sugar Cane League, the Sugar Cane Growers Cooperative of Florida, the Florida Sugar Cane League, Rio Grande Valley Sugar Growers, Inc., Hawaii Sugar Farmers, and the American Sugarbeet Growers Association, (collectively “domestic interested parties”). The Department did not receive a case or rebuttal brief from the Community.

Scope of the Finding

Imports covered by this countervailing duty finding are shipments of sugar from the European Community. During the investigation, such merchandise was classifiable under item numbers 155.2025, 155.2045, 155.3000 and 183.05 of the Tariff Schedules of the United States Annotated (“TSUSA”). This merchandise is currently classifiable under item numbers 1701.11.05, 1701.11.10, 1701.11.20, 1701.11.50, 1701.12.05, 1701.12.10, 1701.12.50, 1701.91.05, 1701.91.10, 1701.91.30, 1701.99.05, 1701.99.1090, 1701.99.5090, 1702.90.05, 1702.90.10, 1702.90.20, 2106.90.42, 2106.90.44, 2106.90.46 of the Harmonized Tariff Schedule (“HTS”). Specialty sugars are exempt from the scope of this finding. On December 7, 1987, two interested parties, the United States Beet Sugar Association and the United States Cane Sugar Refiners' Association, requested a scope review of blends of sugar and dextrose, a corn-derived sweetner, containing at least 65 percent sugar. The merchandise is currently imported under HTS item number 1701.99.00. On June 21, 1990, the Department issued a final scope clarification memorandum, which determined that such blends are within the scope of the finding, and that imports of such blends from the Community are subject to the corresponding countervailing duty.

Analysis of Comments Received:

All issues raised in this review are addressed in the Issues and Decision Memorandum (“Decision Memorandum”) from Barbara E. Tillman, Acting Deputy Assistant Secretary for Import Administration, to Joseph A. Spetrini, Acting Assistant Secretary for Import Administration, dated July 28, 2005, which is hereby adopted by this notice. The issues discussed in the accompanying Decision Memorandum include the likelihood of continuation or recurrence of a countervailable subsidy were the order revoked. Parties can find a complete discussion of all issues raised in this review and the corresponding recommendation in this public memorandum which is on file in the Central Records Unit, room B-099, of the main Commerce building. In addition, a complete version of the Decision Memorandum can be accessed directly on the Web at http://ia.ita.doc.gov/frn. The paper copy and electronic version of the Decision Memorandum are identical in content.

Final Results of Review

The Department finds that revocation of the countervailing duty finding on sugar from the Community would be likely to lead to continuation or recurrence of a countervailable subsidy. The net countervailable subsidy likely to prevail if the finding were revoked is 21.73 cents per pound.

Notification Regarding Administrative Protective Order

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: July 28, 2005.
Joseph A. Spetrini,
Acting Assistant Secretary for Import Administration.

[FR Doc. E5-4189 Filed 8-3-05; 8:45 am]

BILLING CODE 3510-DS-S